DEPARTMENT OF ENERGY

Bonneville Power Administration

2008 Columbia Basin Fish Accords Memorandum of Agreement with the Shoshone-Bannock Tribes

AGENCY: Bonneville Power Administration (BPA), Department of Energy (DOE).

ACTION: Notice of availability of Record of Decision (ROD).

SUMMARY: This notice announces the availability of the ROD for the 2008 Columbia Basin Fish Accords Memorandum of Agreement (MOA) with the Shoshone-Bannock Tribes consistent with and tiered to the Fish and Wildlife Implementation Plan Environmental Impact Statement (DOE/EIS-0312, April 2003) and ROD (October 31, 2003). BPA has decided to enter into a MOA with the Shoshone-Bannock Tribes of the Fort Hall Indian Reservation in Idaho and two Federal agencies (the U.S. Army Corps of Engineers and the U.S. Bureau of Reclamation) to provide for 10-year mutual commitments to implement projects for the benefit of fish and wildlife within the Columbia River Basin. BPA believes the agreement will benefit fish and wildlife in the region by providing additional actions, greater clarity regarding biological benefits, and secure funding. The agreement also provides substantial benefits for wildlife and fish populations, both anadromous and resident fish, within the Basin and within Idaho. The agreement will also help BPA meet its treaty and trust responsibilities to the tribes.

ADDRESSES: Copies of the ROD may be obtained by calling BPA's toll-free document request line, 1-800-622-4520. The ROD is also available on the BPA Web site, http://www.bpa.gov/corporate/pubs/rods/2008/.

FOR FURTHER INFORMATION CONTACT: Sandra Ackley, Bonneville Power Administration—KEC-4, P.O. Box 3621, Portland, Oregon, 97208-3621; toll-free telephone number 1-800-282-3713; fax number 503-230-5699; or e-mail sjackley@bpa.gov.

Issued in Portland, Oregon, on November 6, 2008.
Stephen J. Wright,
Administrator and Chief Executive Officer.

[FR Doc. E8-27186 Filed 11-14-08; 8:45 am]

BILLING CODE 6450-01-P